DEPARTMENT OF ENERGY

Federal Energy Regulatory Commission

[Docket No. EL15-96-000]

Backyard Farms Energy LLC, Devonshire Energy LLC: Notice of Petition for Declaratory Order

Take notice that on August 27, 2015, in accordance with section 35.42(a)(2) of the regulations of the Federal Energy Regulatory Commission (Commission), 18 CFR 35.42(a)(2), Order No. 652,¹ and Order No. 697,² Backyard Farms Energy LLC and Devonshire Energy LLC (MBR Entities), filed a petition for declaratory order requesting that the Commission find that the MBR Entities are not affiliates of or under “common control” with the Fidelity Accounts or FIL Limited (FIL), or, in the alternative, that even if such an affiliation is deemed to exist, investments by the Fidelity Accounts or FIL would not affect the conditions relied upon by the Commission when granting market-based rate authorization to the extent such investments are passive investments, as more fully described in the petition.

¹ Reporting Requirement for Changes in Status for Public Utilities With Market-Based Rate Authority, Order No. 652, 70 FR 8253 (Feb. 18, 2005), reh'g, 111 FERC ¶ 61,413 (2005).

² Market-Based Rates for Wholesale Sales of Electric Energy, Capacity and Ancillary Services by Public Utilities, Order No. 697, 72 FR 39904 (July 20, 2007), clarified, 72 FR 72239 (Dec. 20, 2007), reh'g, Order No. 697-A, 73 FR 25832 (May 7, 2008) (“Order No. 697-A”), reh'g, 124 FERC ¶ 61,055 (2008), reh'g, Order No. 697-B, 73 FR 79610 (Dec. 30, 2008), reh'g, Order No. 697-C, 74 FR 30924 (June 29, 2009), reh'g, Order No. 697-D, 57 FR 14342 (March 25, 2010), clarified 131 FERC ¶ 61,021 (2010), reh'g denied, 134 FERC ¶ 61,046 (2011), reh'g denied, 143 FERC ¶ 61,126 (2013).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern time on September 28, 2015.

Dated: August 28, 2015.
Kimberly D. Bose,
Secretary.

[FR Doc. 2015-21983 Filed 9-3-15; 8:45 am]

BILLING CODE 6717-01-P